DEPARTMENT OF COMMERCE

National Oceanic and Atmospheric Administration

[I.D. 022403A]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Law Enforcement Advisory Panel (LEAP).

DATES: The meeting will be held on Tuesday, March 18, 2003, from 1 to 5 p.m.

ADDRESSES: This meeting will be held at the Marriott's Grand Hotel, One Grand Boulevard, Point Clear, AL; telephone: 251-928-9201.

Council address: Gulf of Mexico Fishery Management Council, 3018 U.S. Highway 301 North, Suite 1000, Tampa, FL 33619.

FOR FURTHER INFORMATION CONTACT: Richard Leard, Senior Fishery Biologist, Gulf of Mexico Fishery Management Council; telephone: 813-228-2815.

SUPPLEMENTARY INFORMATION: The LEAP will convene to review an Options Paper for Amendment 13 to the Shrimp Fishery Management Plan (FMP) that includes alternatives to improve the bycatch reporting methodology and to further reduce bycatch from shrimp trawling. The LEAP will also review an Options Paper for Amendment 18 to the Reef Fish FMP that includes a variety of options including: changes to the allowable gear, gear and fishery endorsements, vessel monitoring systems, permit reductions, closed areas, closed seasons, and rebuilding plans for some overfished species. An Options Paper for Amendment 21 to the Reef Fish FMP that includes alternatives for maintaining, eliminating, or modifying the current marine reserves known as the Madison-Swanson and Steamboat Lumps sites off the west coast of Florida will also be reviewed by the LEAP. The LEAP will discuss a preliminary Scoping Paper for Amendment 15 to the Coastal Migratory Pelagics FMP that will look at possibly adding additional species to the FMP or its management unit, prohibition of recreational sales, bag and size limits for cobia, and a standardized bycatch reporting methodology. Other items to be considered by the LEAP include penalties for Magnuson-Stevens Fishery Conservation and Management Act (Magnuson-Stevens Act) violations and the current status of regulatory actions that have previously been submitted for approval by NMFS.

The LEAP consists of principal law enforcement officers in each of the Gulf states as well as NMFS, the U.S. Coast Guard, and NOAA's General Counsel. A copy of the agenda and related materials can be obtained by calling the Council office at 813-228-2815.

Special Accommodations

This meeting is physically accessible to people with disabilities. Requests for sign language interpretation or other auxiliary aids should be directed to Anne Alford at the Council (see ADDRESSES) by March 11, 2003.

Dated: February 24, 2003.
Theophilus R. Brainerd,
Acting Director, Office of Sustainable Fisheries, National Marine Fisheries Service.

[FR Doc. 03-4683 Filed 2-27-03; 8:45 am]

BILLING CODE 3510-22-S